NATIONAL SCIENCE FOUNDATION

Committee on Equal Opportunities in Science & Engineering; Notice of Meeting

In accordance with the Federal Advisory Committee Act (Pub. L. 92-463, as amended), the National Science Foundation (NSF) announces the following meeting:

Name and Committee Code: Committee on Equal Opportunities in Science & Engineering (#1173) (Virtual).

Date and Time: October 30, 2025; 1 p.m.-5:15 p.m. (eastern).

Place: National Science Foundation, 2415 Eisenhower Avenue, Alexandria, VA 22314 (Virtual).

Meeting Registration: Virtual attendance information will be forthcoming on the CEOSE website at http://www.nsf.gov/od/oia/activities/ceose/index.jsp.

Type of Meeting: Open.

Contact Persons: Dr. Bernice Anderson, Senior Advisor and CEOSE Executive Secretary, Office of Integrative Activities (OIA); National Science Foundation, 2415 Eisenhower Avenue, Alexandria, VA 22314. Contact Information: Phone: 703-292-8040, Email: banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadensing participation in science and engineering.

Agenda:

October 30, 2025

1 p.m.-1:30 p.m. Welcome, Opening Remarks, Introductions

1:30 p.m.-2 p.m. Report of the CEOSE Executive Liaison

2 p.m.-3 p.m. Presentation: Relevant White House Executive Orders

3 p.m.-3:15 p.m. Break

3:15 p.m.-4 p.m. Presentation: Recent and Upcoming CEOSE Reports

4 p.m.-5 p.m. Discussion: Future Plans

5 p.m.-5:15 p.m. Debriefing and Adjournment

Date: June 17, 2025.
Crystal Robinson,
Committee Management Officer.

[FR Doc. 2025-11435 Filed 6-20-25; 8:45 am]

BILLING CODE 7555-01-P